DEPARTMENT OF THE INTERIOR

Bureau of Land Management

[ID-074-2822-JL-F658]

Notice of Temporary Closure to Motorized Vehicles and Camping Use on Public Lands in Clark County, Idaho

AGENCY: Bureau of Land Management.

ACTION: Notice of Motor Vehicle Use.

SUMMARY: The Bureau of Land Management (BLM) intends to temporarily close, in Clark County, Idaho: (1) All roads and trails except three designated access roads on BLM managed public lands within the 29,468 burned acres of the Deep Fire (F658) to all motorized vehicles; and (2) any camping on such lands within the burn area.

DATES: The closure took effect on October 21, 2003 and will remain in effect until August 1, 2005, or until such time as the authorized officer of the Idaho Falls Field Office determines the closure may be lifted.

FOR FURTHER INFORMATION CONTACT: Bill Boggs, Outdoor Recreation Planner, (208) 524-7500, BLM Idaho Falls Field Office, 1405 Hollipark Drive, Idaho Falls, ID 83401.

SUPPLEMENTARY INFORMATION: This temporary closure is a direct result of the Deep Fire (F658), which burned this area in July and August of 2003, and subsequent rehabilitation efforts of the BLM. The closure will promote the reestablishment of vegetation, improve the potential for recovery of wildlife habitat, and reduce the potential for erosion and noxious weed invasion. Exceptions are granted to the following: Access by law enforcement patrols, emergency services, and administratively approved access for actions such as monitoring, research studies, and access to private lands and any other actions will be considered on a case-by-case basis by the BLM Field Manager, Idaho Falls.

After the closure is lifted, motorized vehicle use will be limited to existing roads and two track trails. The closure is in accordance with 43 CFR 9268.3(d)(1). Violation of this order is punishable by a fine not to exceed $1,000.00 and/or imprisonment not to exceed 12 months.

Authority: 43 CFR 8364.1.

The area of closure and impoundment affected by this notice is the burned portion of public lands administered by the BLM, specifically described wholly or partially:

T. 10 N., R. 34 E,

Secs. 2, 3.

T. 11 N., R. 33 E,

Secs. 1 to 4, inclusive, secs. 10 to 15, inclusive, secs. 22 to 26, inclusive, secs. 35 and 36.

T. 11 N., R. 34 E,

Secs. 3 to 10, inclusive, secs. 15 to 23, inclusive, secs. 26 to 31, inclusive, secs. 33 to 35, inclusive.

T. 12 N., R. 33 E.,

Secs. 1 to 5, inclusive, secs. 8 to 17, inclusive, secs. 21 to 28, inclusive, and secs. 33 to 36, inclusive.

T. 12. N. R. 34 E.,

Sec. 7, secs. 18 to 20, inclusive, and secs. 28 to 33, inclusive.

T. 13. N. R. 33 E.,

Secs. 22, 23, 26, 27, 33, 34, 35.

Detailed maps of the areas closed to OHV and camping use will be posted with this notice at key locations that provide access into the closure areas as well as being available at the Idaho Falls Field Office at the address below. A burn area rehabilitation plan for the area has been completed and signed on 9/5/03. A NEPA Document and ROD was completed with this plan. (ID-074-2003-053).

FOR FURTHER INFORMATION CONTACT: Bill Boggs, Outdoor Recreation Planner, (208) 524-7500, BLM Idaho Falls Field Office, 1405 Hollipark Drive, Idaho Falls, ID 83401.

Dated: November 25, 2003.
Carol McCoy Brown,
Idaho Falls Field Manager.

[FR Doc. 04-4756 Filed 3-2-04; 8:45 am]

BILLING CODE 4310-GG-P